DEPARTMENT OF ENERGY

Federal Energy Regulatory Commission

[Project No. 2576-083]

Northeast Generation Company; Notice Granting Late Intervention

May 10, 2007.

On August 2, 2006, the Commission issued a notice of application soliciting comments, motions to intervene, and protest for the Housatonic River Hydroelectric Project No. 2576, located on the Housatonic River, in Fairfield, Litchfield, and New Haven Counties, Connecticut. The notice established September 1, 2006, as the deadline for filing motions to intervene in the proceeding.

On September 8, 2006, the Candlewood Lake Authority filed a late motion to intervene in the proceeding. Granting the late motion to intervene will not unduly delay or disrupt the proceeding, or prejudice other parties to it. Therefore, pursuant to Rule 214,¹ the late motion to intervene filed by the Candlewood Lake Authority is granted, subject to the Commission's rules and regulations.

¹ 18 CFR 385.214 (2006).

Kimberly D. Bose,
Secretary.

[FR Doc. E7-9460 Filed 5-16-07; 8:45 am]

BILLING CODE 6717-01-P